DEPARTMENT OF LABOR

Employment and Training Administration

[TA-W-56,369]

Tower Automotive Milwaukee, LLC, Milwaukee Business Unit, a Division of Tower Automotive, Inc., Milwaukee, WI; Negative Determination Regarding Application for Reconsideration

By application of April 13, 2005, a petitioner requested administrative reconsideration of the Department's negative determination regarding eligibility to apply for Trade Adjustment Assistance (TAA), applicable to workers and former workers of the subject firm. The denial notice was signed on March 15, 2005, and was published in the Federal Register on May 2, 2005 (70FR 22710).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Tower Automotive Milwaukee, LLC, Milwaukee Business Unit, a Division of Tower Automotive, Inc., Milwaukee, Wisconsin engaged in production of automotive stampings and frames was denied because the “contributed importantly” group eligibility requirement of Section 222 of the Trade Act of 1974, as amended, was not met, nor was there a shift in production from that firm to a foreign country.

The “contributed importantly” test is generally demonstrated through a survey of the workers' firm's customers. The survey revealed no increase in imports of automotive stampings and frames during the relevant period. The subject firm did not import automotive stampings or frames in the relevant period.

The petitioner alleges that the subject firm is planning to move production of the Dodge RAM light truck frame assembly “from Milwaukee to Tower Automotive's joint venture partner” in Mexico in mid-2005.

An official of Tower Automotive was contacted in regards to this allegation. The company official stated that Tower Automotive is not “shifting its production of Dodge RAM light truck frame assembly from Milwaukee to Mexico.” Tower Automotive will no longer be producing the Dodge RAM light truck frame beginning with the 2006 model year in Milwaukee or anywhere else. The production will end during the period of June 29, 2005 to July 12, 2005. The official further stated that Dodge RAM light truck frame will, however, be produced in Mexico by a different company for the subject firm's customer. It was further revealed that the production of the frame in Mexico by the other company will approximately coincide with when Tower Automotive ceases production of the frame in Milwaukee.

The Department considers import impact for the relevant period of the investigation, which is the one year prior to the date of the petition. In this case, the petition was dated January 19, 2005, and events that may occur in June-July of 2005 are outside of the scope of the investigation. As noted above, the petition investigation determined that there were no increased imports of automotive stampings and frames during the relevant time period.

The petitioner further states that the subject firm's customers are importing automotive stampings and frames and, thus, these imports have contributed to the threat of separation of workers of the subject firm. As a proof, the petitioner attached correspondence and a Bill of Lading for “Body autoparts chassis” dated January 11, 2005, showing Mexico as the point of origin of the parts.

A Tower Automotive official for the Milwaukee facility confirmed that its customer has been purchasing frames from Mexico. For convenience, the customer is shipping them to its domestic assembly plant through Tower Automotive's sequencing center.

The review of the investigation file for this petition confirmed that this declining customer is indeed importing automotive stampings and frames. However, the survey shows a decrease in import purchases of automotive stampings and frames and an increase in purchases from the subject firm during the relevant period.

The petitioner is encouraged to file a new petition should conditions change.

Conclusion

After review of the application and investigative findings, I conclude that there has been no error or misinterpretation of the law or of the facts which would justify reconsideration of the Department of Labor's prior decision. Accordingly, the application is denied.

Signed at Washington, DC, this 5th day of May, 2005.
Linda G. Poole,
Certifying Officer, Division of Trade Adjustment Assistance.

[FR Doc. E5-2426 Filed 5-13-05; 8:45 am]

BILLING CODE 4510-30-P